DEPARTMENT OF STATE

Notice of Intent To Prepare an Environmental Impact Statement and To Conduct Scoping Meetings and Notice of Floodplain and Wetland Involvement; Transcanada Keystone Pipeline, L.P.

AGENCY: Department of State.

ACTION: Notice of Intent to Prepare an Environmental Impact Statement (EIS) and to Conduct Public Scoping Meetings. Notice of Floodplain and Wetlands Involvement.

SUMMARY: TransCanada Keystone Pipeline, L.P. has applied to the United States Department of State for a Presidential Permit for the proposed construction, connection, operation, or maintenance, at the border of the United States of facilities for the importation of petroleum from a foreign country. The Department of State receives and considers applications for Presidential Permits for such energy-related pipelines pursuant to authority delegated to it by the President under Executive Order 13337 of April 30, 2004 (69 FR 25299). To issue a Permit, the Department of State must find that issuance would serve the national interest. It consults extensively with concerned Federal and State agencies, and invites public comment in arriving at its determination. With respect to the application submitted by TransCanada Keystone Pipeline, L.P., the Department of State has concluded that the issuance of the Presidential Permit would constitute a major Federal action that may have a significant impact upon the environment within the meaning of the National Environmental Policy Act of 1969 (NEPA). For this reason, Department of State intends to prepare an environmental impact statement (EIS) to address reasonably foreseeable impacts from the proposed action and alternatives, to include the proposed Cushing extension.

The purpose of this Notice of Intent is to inform the public about the proposed action, announce plans for scoping meetings, invite public participation in the scoping process, and solicit public comments for consideration in establishing the scope and content of the EIS. As the proposed project may involve an action in a floodplain or wetland, the EIS will include a floodplain and wetlands assessment and floodplain statement of findings.

DATES: Department of State invites interested agencies, organization, and members of the public to submit comments or suggestions to assist in identifying significant environmental issues and in determining the appropriate scope of the EIS. The public scoping period starts with the publication of this Notice in the Federal Register and will continue until November 30, 2006. Written, electronic and oral comments will be given equal weight and State will consider all comments received or postmarked by November 30th in defining the scope of this EIS. Comments received or postmarked after that date will be considered to the extent practicable.

During this public scoping period, the Department of State plans to use the scoping process to help identify consulting parties and historic preservation issues for consideration under Section 106 of the National Historic Preservation Act and its implementing regulations (36 CFR Part 800).

Dates and locations for the public scoping meetings are:

1. October 24, 2006, 7 to 10 p.m., Michigan, North Dakota, Michigan Civic Center, 113 Broadway N., Michigan.

2. October 24, 2006, 7 to 10 p.m., Yankton, South Dakota, Minerva Convention Centre at the Best Western, Kelley Inn, 1607 East Highway 50, Yankton.

3. October 25, 2006, 7 to 10 p.m., Lisbon, North Dakota, Commons Room, Lisbon High School, 502 Ash Street, Lisbon.

4. October 25, 2006, 7 to 10 p.m., Stanton, Nebraska, VFW Meeting Hall, 1106 Veteran's Avenue, Stanton.

5. October 28, 2006, 7 to 10 p.m., Clark, South Dakota, Clark Community Center, 120 N. Commercial Street, Clark.

6. October 28, 2006, 7 to 10 p.m., Seward, Nebraska, Seward Civic Center, Auditorium, 616 Bradford St., Seward.

7. November 1, 2006, 7 to 10 p.m., St. Charles, Missouri, Commons Area, Orchard Farm High School, 2165 Highway V, St. Charles.

8. November 2, 2006, 7 to 10 p.m., Collinsville, Illinois, Gateway Center Marquette Room, One Gateway, Drive (Highway 157 & Eastport Plaza Drive), Collinsville.

9. November 8, 2006, 7 to 10 p.m., Carrollton, Missouri, Rupe Community Building (Behind Fire Station, park on north side of building, do not block fire station) 710 Harvest Hills Road, Carrollton.

10. November 9, 2006, 7 to 10 p.m., Seneca, Kansas, Nemaha Community Center, 1500 Community Drive, Seneca.

11. November 14, 2006, 7 to 10 p.m., Abilene, Kansas, Abilene Convention & Visitor's Bureau, Historical Train Depot, 210 NW 2nd Street, Abilene.

12. November 15, 2006, 7 to 10 p.m., El Dorado, Kansas, El Dorado Civic Center, Main Meeting Room, 210 E. Central, El Dorado.

13. November 16, 2006, 7 to 10 p.m., Morrison, Oklahoma, Morrison Park Pavillion, Hwy 64 & Casey Trail, (One block from 7th Street), Morrison.

The scoping meetings will be conducted in a workshop style. A court reporter will be present and will accept comments for the record.

ADDRESSES: Written comments or suggestions on the scope of the EIS should be addressed to: Elizabeth Orlando, OES/ENV Room 2657, U.S. Department of State, Washington, DC 20520. Comments may be submitted electronically to keystoneeis@state.gov. Public comments will be posted on the Web site identified below.

FOR FURTHER INFORMATION CONTACT: For information on the proposed project or to receive a copy of the Draft EIS when it is issued, contact Elizabeth Orlando at the address listed in the ADDRESSES section of this notice by electronic or regular mail as listed above, or by telephone (202) 647-4284, or by fax at (202) 647-5947.

More information on the TransCanada Keystone Pipeline application for a Presidential Permit, including associated maps and drawings will be downloadable in its entirety from a Web site that is being established for this purpose: http://www.keystonepipeline.state.gov (hosted by Entrix, Department of State's contractor to perform the EIS study). This Web site is expected to be operational on or about October 20, 2006. This Web site will accept public comments for the record.

Department of State Presidential Permit information and process can also be found at the above internet address.

A TransCanada hosted project Web site is also available at: http://www.transcanada.com/keystone/index.html. The Keystone Project toll-free number is: 1 (866) 717-7473 (United States and Canada).

SUPPLEMENTARY INFORMATION:

Background and Need for Agency Action

TransCanada Keystone Pipeline, LP (Keystone) proposes to construct and operate an interstate crude oil pipeline and related facilities from an oil supply hub near Hardisty, Alberta, in Canada, to destinations in the United States. The proposed project, known as the Keystone Pipeline Project, initially would have the nominal capacity to deliver 435,000 barrels per day (bpd) of crude oil from the oil supply hub near Hardisty to existing terminals at Wood River (Madison County) and Patoka (Marion County), Illinois. Additional pumping capacity could be added to increase the average throughput to 591,000 bpd if market conditions warrant expansion in the future. Keystone is considering the construction of two pipeline extensions to take crude oil from terminals at Fort Saskatchewan, Alberta, and deliver it to Cushing (Payne County), Oklahoma.

As initially proposed, the Keystone Pipeline Project would consist of approximately 1,845 miles of pipeline, including about 767 miles in Canada and 1,078 miles within the United. States traversing the States of North Dakota, South Dakota, Nebraska, Missouri, Kansas and Illinois. The project is proposed to be located primarily in rural areas, with more populated areas occurring around Troy and St. Louis, Missouri and Wood River and Edwardsville, Illinois. These distances would increase if the proposed pipeline were extended to Fort Saskatchewan, Alberta, and/or Cushing, Oklahoma. U.S. counties that could possibly be affected by construction of the proposed pipeline, including the proposed Cushing extension are:

North Dakota: Pembina, Cavalier, Walsh, Nelson, Steele, Barnes, Ransom, and Sargent.

South Dakota: Marshall, Day, Clark, Beadle, Kingsbury, Miner, Hanson, McCook, Hutchinson, and Yankton; Nebraska: Cedar, Wayne, Stanton, Platte, Colfax, Butler, Seward, Saline, Jefferson, and Gage;

Kansas: Marshall, Nemaha, Brown, Washington, Clay, Dickinson, Marion, Butler, Cowley and Doniphan;

Missouri: Buchanan, Clinton, Caldwell, Carroll, Chariton, Randolph, Audrain, Montgomery, Lincoln, and St. Charles;

Illinois: Madison, Bond, Fayette, Marion; and

Oklahoma (under a possible future extension): Kay, Noble and Payne.

In Canada, the project as proposed would involve the transfer to Keystone of an existing 530 mile, 34-inch-diameter pipeline currently owned by TransCanada and conversion of that line to crude oil service; construction of a new 237-mile pipeline extension from Hardisty to the existing pipeline; and construction of a pipeline extension from the existing pipeline to the U.S.-Canada border. Appropriate regulatory authorities in Canada will conduct an independent environmental review process for the Canadian facilities.

In the United States, the proposed Keystone pipeline consists of 1,023 miles of 30-inch pipe between the U.S.-Canada border in Cavalier County, North Dakota, and Wood River, Illinois, and a 55-mile segment of 24-inch pipeline between Wood River and Patoka, Illinois. In addition, Keystone may construct a 292-mile 36-inch pipeline, referred to as the “Cushing Extension”, commencing in Platte County near the Nebraska-Kansas border and terminating at existing crude oil terminals in Cushing (Payne County), Oklahoma.

Keystone proposes to construct the 30- and 36-inch pipelines within a 110-foot-wide corridor, consisting of both a temporary 60-foot-wide construction right-of-way (ROW) and a 50-foot permanent ROW. In Illinois, where a portion of the Keystone Pipeline is proposed to be 24-inch pipeline, the proposed project would be constructed within a 95-foot-wide corridor, consisting of both a temporary 45-foot-wide construction ROW and a 50-foot permanent ROW. Extra temporary workspace would be required in some locations, including stream, wetland and road crossings.

Above ground facilities for the proposed Keystone pipeline include an initial 23 pump stations and 45 mainline valves located within the ROW. The pump stations would enable Keystone to maintain the pressure required to make crude oil deliveries. Valves are proposed to be installed and located as dictated by the hydraulic characteristics of the pipeline and as required by Federal regulations. Construction of delivery metering and other facilities at Wood River, Patoka, and Cushing would measure the amount of product transported and delivered to terminals.

Above ground facilities for the proposed Cushing Extension include facilities at Ponca City and 12 mainline valves within the ROW. The delivery facility is proposed to be located adjacent to existing operational tanks in Ponca City and Cushing, Oklahoma.

It is estimated that approximately 163 perennial waterbody crossings could occur during the proposed construction of the Keystone mainline and 81 perennial waterbody crossings could occur on the proposed Cushing extension. Proposed major river crossings include but are not limited to the Missouri, Platte, Chariton, Cuivre and Mississippi Rivers. Wetlands may be crossed by the proposed route of the main pipeline and the Cushing extension.

New pump stations and remotely activated valves proposed to be located along the pipeline route require electrical transmission power lines and facility upgrades in multiple locations along its route. These proposed electrical components would be constructed and operated by local power providers, not Keystone. The construction and operation of these facilities are considered connected actions under the National Environmental Policy Act (NEPA) and, therefore, will be evaluated within the EIS.

Keystone proposes to begin construction of the pipeline in early 2008. Proposed construction would occur over an approximately 18-month period. Construction of the proposed Cushing Extension, if undertaken, is anticipated to commence in 2009 and require a 12-month period.

Land Requirements

It is estimated that construction of the project as proposed would cause approximately 16,272 acres of land to be disturbed as temporary construction workspace; which would be restored after construction is complete. In addition, approximately 6,565 acres of land would be required as permanent ROW. Of that total, approximately 6,512 acres are proposed to be restored and returned to their previous use after construction. As proposed, approximately 53 acres of permanent ROW would not be restored but would serve to provide adequate space for above-ground facilities, including pump stations, valves, etc. for the life of the pipeline. As currently proposed, no federally owned lands appear to be implicated; however, some federally managed lands would be affected.

If the proposed Cushing Extension were constructed as proposed, it is estimated that approximately 4,580 acres of additional land would be disturbed as temporary construction workspace, which would be restored after construction is complete. Approximately 1,789 acres of land would be required as permanent ROW. Of that total, approximately 1,778 acres are proposed to be restored and returned to their previous use after construction.

The EIS Process

NEPA requires the Department of State to take into account the environmental impacts that could result from the approval of a Presidential Permit authorizing construction, operation, and maintenance of pipeline facilities for the importation of crude oil to be located at the international border of the United States and Canada. The Department of State will use the EIS to assess the environmental impact that could result if the Keystone Pipeline Project is granted a Presidential Permit.

NEPA also requires Department of State to identify concerns the public may have about proposals under consideration by the Department of State. This process is referred to as “scoping.” The main goal of the scoping process is to focus the analysis in the EIS on the important environmental issues. With this Notice of Intent, the Department of State is requesting public comments on the scope of the issues to be addressed in the EIS. All comments received during the scoping period will be considered during preparation of the EIS. Comments received after the close of the comment period will be considered to the extent practicable.

In the EIS, Department of State will discuss impacts that could occur as a result of the construction and operation of the proposed project under these general headings:

• Geology and soils;

• Water resources;

• Fish, wildlife, and vegetation;

• Threatened and endangered species;

• Cultural resources;

• Land use, recreation and special interest areas; visual resources;

• Air quality and noise;

• Socioeconomics; and

• Reliability and safety.

In the EIS, Department of State will also evaluate reasonable alternatives to the proposed project or portions of the project and make recommendations on how to lessen or avoid impacts on affected resources. In addition, a “no action alternative” will be considered.

The Department of State's independent analysis of the issues will be included in a draft EIS. The draft EIS will be published and mailed to relevant Federal, State and local government agencies, elected officials, environmental and public interest groups, Native American tribes, affected landowners, commentors, local libraries, newspapers and other interested parties. A 45-day comment period will be allotted for review of the draft EIS. We will consider all timely comments on the draft EIS and revise the document, as necessary, before issuing a final EIS. We will consider all comments on the final EIS before reaching a conclusion on whether to grant Keystone a Presidential Permit authorizing construction, operation, and maintenance of pipeline facilities for the importation of crude oil to be located at the international border of the United States and Canada.

Currently Identified Environmental Issues

The EIS will discuss impacts that could occur as a result of the construction, operation and maintenance of the proposed project. We have already identified several issues that we think deserve attention. This preliminary list of issues may be changed based on public comments and analysis.

• The minimization of construction rights-of-way and associated construction impacts.

• Potential effects on prime farmland and soils with a high potential for compaction.

• Potential impacts to existing land uses, including residences, agricultural and managed forested lands.

• Potential impacts to perennial and intermittent waterbodies, including waterbodies with Federal and/or State designations.

• Evaluation of the potential for temporary and permanent impacts on wetlands.

• Potential impacts to fish and wildlife habitat, including potential impacts to federally and State-listed threatened and endangered species.

• Potential impacts to wildlife management areas.

• Potential impacts and benefits of construction workforce on local housing, infrastructure, public services and economy.

• Public safety and potential hazards associated with the transport of crude oil.

• Alternative alignments for the pipeline route.

• Assessment of the effect of the proposed project when combined with other past, present, or reasonably foreseeable future actions in the project area.

• Public Participation.

You are encouraged to become involved in this process and provide your specific comments or concerns about the proposed project. By becoming a commentor, your concerns will be addressed in the EIS and considered by the Department of State. Your comments should focus on the potential environmental impacts, reasonable alternatives (including alternative facility sites and alternative pipeline routes), and measures to avoid or lessen environmental impacts. The more specific your comments, the more useful they will be.

The public scoping meetings identified above are designed to provide another opportunity to offer comments on the proposed project. Interested individuals and groups are encouraged to attend these meetings and to present comments on the environmental issues they believe should be addressed in the EIS. Again, written comments are considered with equal weight in the process relative to those received in public scoping meetings.

Issued in Washington, DC on October 4, 2006.
David Brown,
Director, Bureau of Oceans and International Environmental and Scientific Affairs/Office of Environmental Policy, U.S. Department of State.

[FR Doc. E6-16807 Filed 10-10-06; 8:45 am]

BILLING CODE 4710-05-P